DEPARTMENT OF TRANSPORTATION

Maritime Administration

[Docket No. MARAD-2020-0039]

Request for Comments of a Previously Approved Information Collection: Generic Clearance of Customer Satisfaction Surveys

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on October 22, 2019.

DATES: Comments must be submitted on or before March 23, 2020.

ADDRESSES: Send comments regarding the burden estimate, including suggestions for reducing the burden, to the Office of Management and Budget, Attention: Desk Officer for the Office of the Secretary of Transportation, 725 17th Street NW, Washington, DC 20503.

FOR FURTHER INFORMATION CONTACT: Barbara Jackson, 202-366-0615, Office of Management and Administrative Services, Maritime Administration, Department of Transportation, 1200 New Jersey Avenue SE, Washington, DC 20590.

SUPPLEMENTARY INFORMATION:

Title: Generic Clearance of Customer Satisfaction Surveys.

OMB Control Number: 2133-0546.

Type of Request: Renewal of a Previously Approved Information Collection.

Background: This collection of information is necessary to enable the Agency to garner customer and stakeholder feedback in an efficient, timely manner, in accordance with our commitment to improving service delivery. The information collected from our customers and stakeholders will help ensure that users have an effective, efficient, and satisfying experience with the Agency's programs. This feedback will provide insights into customer or stakeholder perceptions, experiences and expectations, provide an early warning of issues with service, or focus attention on areas where communication, training or changes in operations might improve delivery of products or services. The types of surveys to be included in this clearance include various types of customer surveys, listening sessions and focus groups. These collections will allow for ongoing, collaborative and actionable communications between the Agency and its customers and stakeholders. It will also allow feedback to contribute directly to the improvement of program management.

Respondents: Individuals and Households, Busineses and Organizations, State, Local or Tribal Government.

Affected Public: Individuals and Households, Busineses and Organizations, State, Local or Tribal Government.

Total Estimated Number of Respondents: 5,900.

Total Number of Responses: 5,900.

Frequency of Collection: Once per Request.

Estimated Time per Respondent: 10-120 minutes.

Total Estimated Number of Annual Burden Hours: 1,758.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

* * * * *

Dated: February 13, 2020.
By Order of the Maritime Administrator.
T. Mitchell Hudson, Jr.,
Secretary, Maritime Administration.

[FR Doc. 2020-03265 Filed 2-19-20; 8:45 am]

BILLING CODE 4910-81-P